DEPARTMENT OF HEALTH AND HUMAN SERVICES

National Institutes of Health

National Heart, Lung, and Blood Institute; Amended Notice of Meeting

Notice is hereby given of a change in the meeting of the National Heart, Lung, and Blood Institute Special Emphasis Panel, July 10, 2001, 8 a.m. to July 11, 2001, 5 p.m., Holiday Inn, 5520 Wisconsin Avenue, Chevy Chase, MD, 20815 which was published in the Federal Register on June 29, 2001, 66 FR 34700.

The meeting was previously advertised as a meeting open to the public, and now has changed to a meeting closed to the public in accordance with the provisions set forth in sections 552b(c)(4) and 552b(c)(6), Title 5 U.S.C., as amended. The meeting is closed to the public.

Dated: July 9, 2001.
Anna Snouffer,
Deputy Director, Office of Federal Advisory Committee Policy.

[FR Doc. 01-17736 Filed 7-13-01; 8:45 am]

BILLING CODE 4140-01-M